DEPARTMENT OF DEFENSE

Department of the Army

[Docket ID: USA-2010-0022]

Privacy Act of 1974; System of Records

AGENCY: Department of the Army, DoD.

ACTION: Notice to add a system of records.

SUMMARY: The Department of the Army proposes to add a system of records to its inventory of record systems subject to the Privacy Act of 1974 (5 U.S.C. 552a), as amended.

DATES: This proposed action would be effective without further notice on December 3, 2010 unless comments are received which result in a contrary determination.

ADDRESSES: You may submit comments, identified by docket number and/Regulatory Information Number (RIN) and title, by any of the following methods:

* Federal Rulemaking Portal: http://www.regulations.gov. Follow the instructions for submitting comments.

* Mail: Federal Docket Management System Office, Room 3C843, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Department of the Army, Privacy Office, U.S. Army Records Management and Declassification Agency, 7701 Telegraph Road, Casey Building, Suite 144, Alexandria, VA 22325-3905, Mr. Leroy Jones at (703) 428-6185.

SUPPLEMENTARY INFORMATION: The Department of the Army notices for systems of records subject to the Privacy Act of 1974 (5 U.S.C. 552a), as amended, have been published in the Federal Register and are available from the FOR FURTHER INFORMATION CONTACT address above.

The proposed system report, as required by 5 U.S.C. 552a(r) of the Privacy Act of 1974, as amended, was submitted on October 20, 2010 to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: October 26, 2010.
Morgan F. Park,
Alternate OSD Federal Register Liaison Officer, Department of Defense.

A0601-270a TRADOC DoD

SYSTEM NAME:

Reception Battalion Automated Support System (RECBASS).

SYSTEM LOCATION:

The Army Training Support Center (ATSC) (test and development only) at Army Training Support Center (ATSC), Commander, Building 2114, Pershing Avenue, Fort Eustis, VA 23604-5166 and five production sites listed below.

Commander, 46th Adjutant General Battalion (Reception) (ATZJ-RSZ), 3576 Wilson Road, Building 6559, Fort Knox, KY 40121-5728;

30th Adjutant General Battalion (Reception) (ATSH-BCR), 5469 187th Infantry Regiment Street, Building 3020, Fort Benning, GA 31905-4158;

95th Adjutant General Battalion (Reception) (ATSF-KR), 2843 Davidson Road, Building B-2843, Fort Sill, OK 73503-4443;

120th Adjutant General Battalion (Reception) (ATZJ-RB), 1895 Washington Road, Fort Jackson, SC 29207-6704;

43rd Adjutant General Battalion (Reception) (ATZT-AG), 200 Oklahoma Avenue, Building 2108, Fort Leonard Wood, MO 65473-8930.

CATEGORIES OF INDIVIDUALS COVERED BY THE SYSTEM:

Army, Navy, Marine, Air Force recruits being managed during the initial Army in-processing of new inductees and prior service personnel. These include Active, Reserve, and Guard components; and Individual Ready Reserve during mobilization. The system is used prior to assignment to an Initial Military Training Unit.

CATEGORIES OF RECORDS IN THE SYSTEM:

Data includes name; Social Security Number (SSN); military occupational specialty (MOS); roster number; service computation date; mental and physical category; term and end of term service (ETS); number of dependents; gender; religious code; race; company code; enlistment bonus; training phase; mandatory release date; citizenship; basic active service date (BASD); marital status; rank; basic pay entry date (BPED); date of rank; (yes/no) if person has a driver's license; ethnicity; date of birth; education; pulmonary, upper/lower extremity, hearing and eye, and psychological(PULHES) test results; date of arrival; estimated arrival date (EAD); current mailing address and telephone number; if involved in an accident, when and where the accident occurred, type of equipment involved in the accident, and signature; unit identification code (UIC); aptitude area scores; hair color; eye color; school; place of birth; blood type; financial and educational related information; third party referring agent.

AUTHORITY FOR MAINTENANCE OF THE SYSTEM:

10 U.S.C. 3013, Secretary of the Army, 10 U.S.C. 8013, Secretary of the Air Force, 10 U.S.C 5013, Secretary of the Navy, DoD Directive 1145.2, United States Military Entrance Processing Command; Army Regulation 601-270, Military Entrance Processing Station (MEPS); MEPCOM Regulation 680-3, U.S. Military Processing Command Integrated Resources System (USMIRS); and E.O. 9397 (SSN), as amended.

PURPOSE(S):

Used by the five Army Reception Battalions (Forts Knox, Benning, Sill, Jackson, and Leonard Wood) to manage the initial Army in-processing of new inductees and prior service personnel preceding assignment to an initial military training unit.

ROUTINE USES OF RECORDS MAINTAINED IN THE SYSTEM, INCLUDING CATEGORIES OF USERS AND THE PURPOSES OF SUCH USES:

In addition to those disclosures generally permitted under 5 U.S.C. 552a(b) of the Privacy Act of 1974, these records contained therein may specifically be disclosed outside the DoD as a routine use pursuant to 5 U.S.C. 552a(b)(3) as follows:

The DoD `Blanket Routine Uses' set forth at the beginning of the Army's compilation of systems of records notices also apply to this system.

POLICIES AND PRACTICES FOR STORING, RETRIEVING, ACCESSING, RETAINING, AND DISPOSING OF RECORDS IN THE SYSTEM:

STORAGE:

Paper records and electronic storage media.

RETRIEVABILITY:

By name or Social Security Number (SSN) of the prospective enlistee, inquirer, recruiter, or third party referring agent.

SAFEGUARDS:

RECBASS is hosted in a secure environment on an Army installation. The network teams fully comply with Army requirements for physical security and security processes. System Administrators have access to PII and their access is monitored. All personnel with access to PII are Security Plus certified. Data in transit is encrypted. REBCASS exists in development, test and production environments in a secure U.S. Army computing environment that complies with DoD information assurance and certification.

RETENTION AND DISPOSAL:

Keep in the master file until the individual is reassigned or transition from the Reception Battalion, then destroy after 6 years by shredding or erasing from electronic storage media.

SYSTEM MANAGER(S) AND ADDRESS:

Commander, U.S. Army Accessions Command, G-3 (ATAL-O), 90 Ingalls Road, Fort Monroe, VA 23651-1065.

NOTIFICATION PROCEDURE:

Individuals seeking to determine if information about themselves is contained in this system should address written inquiries to the Commander, U.S. Army Accessions Command, G-3 (ATAL-O), 90 Ingalls Road, Fort Monroe, VA 23651-1065.

Individual must furnish his/her full name, Social Security Number (SSN), current address and telephone number; and military status or other information verifiable from the record itself; if involved in an accident, when and where the accident occurred and type of equipment involved, and signature.

In addition, the requester must provide a notarized statement or an unsworn declaration made in accordance with 28 U.S.C. 1746, in the following format:

If executed outside the United States: `I declare (or certify, verify, or state) under penalty of perjury under the laws of the United State of America that the foregoing is true and correct. Executed on (date). (Signature)'.

If executed within the United States, its territories, possessions, or commonwealths: `I declare (or certify, verify, or state) under penalty of perjury that the foregoing is true and correct. Executed on (date). (Signature)'.

RECORD ACCESS PROCEDURES:

Individuals seeking access to information about themselves contained in this system should address written inquiries to the Commander, U.S. Army Accessions Command, G-3 (ATAL-O), 90 Ingalls Road, Fort Monroe, VA 23651-1065.

Individual must furnish his/her full name, Social Security Number (SSN), current address and telephone number; and military status or other information verifiable from the record itself; if involved in an accident, when and where the accident occurred and type of equipment involved, and signature.

In addition, the requester must provide a notarized statement or an unsworn declaration made in accordance with 28 U.S.C. 1746, in the following format:

If executed outside the United States: `I declare (or certify, verify, or state) under penalty of perjury under the laws of the United State of America that the foregoing is true and correct. Executed on (date). (Signature)'.

If executed within the United States, its territories, possessions, or commonwealths: `I declare (or certify, verify, or state) under penalty of perjury that the foregoing is true and correct. Executed on (date). (Signature)'.

CONTESTING RECORD PROCEDURES:

The Army's rules for accessing records, contesting contents and appealing initial agency determinations are contained in Army Regulation 340-21; 32 CFR Part 505; or may be obtained from the system manager.

RECORD SOURCE CATEGORIES:

Information is received from the individual, DoD staff, Initial Receiving Branch (IRB), Public Affairs Branch (PAB) and faculty.

EXEMPTIONS CLAIMED FOR THE SYSTEM:

None.

[FR Doc. 2010-27709 Filed 11-2-10; 8:45 am]

BILLING CODE 5001-06-P